DEPARTMENT OF COMMERCE

National Oceanic and Atmospheric Administration

Agency Information Collection Activities; Submission to the Office of Management and Budget (OMB) for Review and Approval; Comment Request; Southeast Region Individual Fishing Quota (IFQ) Programs

AGENCY: National Marine Fisheries Service (NMFS), National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received by February 1, 2021.

ADDRESSES: Interested persons are invited to submit written comments to Adrienne Thomas, NOAA PRA Officer, at adrienne.thomas@noaa.gov. Please reference OMB Control Number 0648-0551 in the subject line of your comments. All comments received are part of the public record and will generally be posted on www.regulations.gov without change. Do not submit confidential business information or otherwise sensitive or protected information.

FOR FURTHER INFORMATION CONTACT: Requests for additional information or specific questions related to collection activities should be directed to Adam Bailey, National Marine Fisheries Service, Southeast Regional Office, Sustainable Fisheries Division, 263 13th Ave. South, St. Petersburg, FL 33701, telephone: 727-824-5305, email: adam.bailey@noaa.gov.

SUPPLEMENTARY INFORMATION:

I. Abstract

The NMFS Southeast Regional Office manages three commercial individual fishing quota (IFQ) and individual transferable quota (ITQ) programs in the Southeast Region under the authority of the Magnuson-Stevens Fishery Conservation and Management Act (Magnuson-Stevens Act), 16 U.S.C. 1801 et seq. The IFQ programs for red snapper, and groupers and tilefishes occur in Federal waters of the Gulf of Mexico (Gulf), and the ITQ program for wreckfish occurs in Federal waters of the South Atlantic.

The NMFS Southeast Regional Office proposes to extend and revise parts of the information collection currently approved under OMB Control Number 0648-0551. This collection of information tracks the transfer and use of IFQ and ITQ shares, and IFQ allocation and landings by commercial fishermen necessary for NMFS to operate, administer, and review management of the IFQ and ITQ programs. Regulations for the IFQ and ITQ programs are located at 50 CFR part 622.

For the Gulf IFQ programs, the revisions would collect additional business and demographic information on the IFQ Online Account Application, as well as add a requirement to input the vessel signature personal identification number (PIN) a second time on the Dealer Landing Transaction Report if a criterion is met. NMFS would make revisions to the IFQ Online Account Application to obtain ownership percentage data for any business that participates in the Gulf IFQ programs, as well as the type of business, and confirmation of whether the business is small or large, as defined by Small Business Administration standards. NMFS would revise the Dealer Landing Transaction Report to add a requirement for a shareholder to input the vessel signature PIN a second time if the landing transaction would result in a 10 percent overage of their catch allocation during that fishing year. NMFS proposes to add a feature to the Dealer Landing Transaction Report that would notify the shareholder that a 10 percent overage would occur and in which categories, and require the vessel signature PIN to accept the overage. Although the 10 percent overage is utilized infrequently, this would provide the shareholder the opportunity to transfer allocation and avoid using the 10 percent overage.

The purpose of revising the IFQ Online Account Application is to better comply with National Standard 4 (NS4) of the Magnuson-Stevens Act, the Regulatory Flexibility Act (RFA), and the Small Business Administration's regulations implementing the RFA, Executive Order 12898, and the “fairness and equitable distribution” provisions of the Magnuson-Stevens Act, including NS4 and section 303(b)(6). The purpose of revising the Dealer Landing Transaction Report is to better inform participants in the Gulf IFQ programs and require an additional verification from them when the existing flexibility measure of a 10 percent overage of their allocation would occur.

If implemented by NMFS, these administrative revisions would slightly increase the estimated time per response to complete the IFQ Online Account Application. NMFS estimates the time per response would increase from 10 to 13 minutes. However, the estimated time per response for the Dealer Landing Transaction Report is not expected to change. The cost of both the IFQ Online Account Application and the Dealer Landing Transaction Report would remain the same. NMFS proposes no other revisions to the existing information collections for the IFQ and ITQ programs approved in OMB Control No. 0648-0551.

II. Method of Collection

Information for the Gulf red snapper, and grouper and tilefish IFQ programs is collected electronically via a web-based system, through satellite-linked vessel monitoring systems, through a 24-hour call line, and with paper form submission for landing corrections, closing an account, and account applications, as well as landing transactions under catastrophic circumstances. The proposed revision would not change the methods currently used to collect information.

The share transfer process in the wreckfish ITQ program requires the signatures of witnesses on paper forms. The wreckfish ITQ program remains paper-based until the South Atlantic Fishery Management Council and NMFS consider whether to implement an electronic system. NMFS is not proposing to change the wreckfish ITQ program or information collection.

III. Data

OMB Control Number: 0648-0551.

Form Number(s): None.

Type of Review: Regular submission [revision of a current information collection].

Affected Public: Businesses or other for-profit organizations.

Estimated Number of Respondents: 1,064.

Estimated Time per Response:

• Transfer Shares, 3 minutes

• Share Receipt, 2 minutes

• Account Update, 2 minutes

• Trip Ticket Update, 2 minutes

• Transfer Allocation, 3 minutes

• Landing Transaction Correction Request, 5 minutes

• Dealer Cost Recovery Fee Submission through pay.gov, 3 minutes

• Commercial Reef Fish Landing Location Request, 5 minutes

• Dealer Landing Transaction Report, 6 minutes (electronic form)

• Dealer Landing Transaction Report, 5 minutes (paper form used in catastrophic conditions only)

• IFQ Notification of Landing, 5 minutes

• Gulf Reef Fish Notification of Landing, 3 minutes

• IFQ Close Account, 3 minutes

• IFQ Online Account Application, 13 minutes

• Wreckfish Quota Share Transfer, 20 minutes

Estimated Total Annual Burden Hours: 2,397.

Estimated Total Annual Cost to Public: $651 in recordkeeping and reporting costs.

Respondent's Obligation: Mandatory, required to obtain or retain benefits.

Legal Authority: Magnuson-Stevens Act, 16 U.S.C. 1801 et seq.

IV. Request for Comments

We are soliciting public comments to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-26491 Filed 11-30-20; 8:45 am]

BILLING CODE 3510-22-P